GENERAL SERVICES ADMINISTRATION

[Notice-PBS-2019-10; Docket No. 2019-0002; Sequence No. 24]

Notice of Intent To Prepare an Environmental Impact Statement (EIS) for the Chet Holifield Federal Building in Laguna Niguel, California

AGENCY: Public Buildings Service (PBS), General Services Administration (GSA).

ACTION: Scoping announcement.

SUMMARY: GSA intends to prepare an EIS to analyze the potential impacts from the proposed alternatives to address the long-term housing of all the tenants of the Chet Holifield Federal Building. The building is owned and managed by GSA and is occupied by various federal agency tenants, with the United States Citizenship and Immigration Services (USCIS) serving as the largest tenant.

DATES: The Public Scoping Period will begin on Friday, November 8, 2019. Interested parties are encouraged to provide written comments regarding the scope of the EIS on or before Tuesday, December 10, 2019.

ADDRESSES: Written comments can be submitted by either of the following methods:

• Email: osmahn.kadri@gsa.gov.

• Postal Mail/Commercial Delivery: ATT: Osmahn Kadri, 50 United Nations Plaza, Room 3345, Mailbox 9, San Francisco, CA 94102.

The views and comments of the public are necessary in helping to determine the scope and content of the environmental analysis.

FOR FURTHER INFORMATION CONTACT: Osmahn A. Kadri, Regional Environmental Quality Advisor/NEPA Project Manager, GSA, at 415-522-3617.

SUPPLEMENTARY INFORMATION:

Background

The Chet Holifield Federal Building was originally built in 1970 by the Aerospace and Systems Group of North American Rockwell Corporation, although it was never occupied by them. The building and site was transferred to the Federal Government for use by federal agencies in March of 1974. As a result of the age and current condition of the Chet Holifield Federal Building, there are a number of issues with the building to be addressed, including abatement of asbestos containing materials and enhancement of the building's structural system.

The development of this project necessitates an Environmental Impact Statement (EIS) under the National Environmental Policy Act (NEPA) and the GSA Public Buildings Service NEPA Desk Guide as well as Council on Environmental Quality Laws, Regulations, and Executive Orders.

Alternatives

The EIS will consider two “action” alternatives and one “no action” alternative. One action alternative consists of relocation of current tenants into lease space primarily throughout the Orange County, California market. Some tenants may be relocated outside of Orange County. The existing Chet Holifield Federal Building and surrounding government property would be turned over to the GSA Real Property Utilization Disposal Division.

The other action alternative consists of construction of a new federal office building south of the existing Chet Holifield Federal Building for the USCIS and relocating all other tenants into lease space primarily within the Orange County market. The existing building and the remainder of the property not retained for construction of the new Federal Office Building would be turned over to the GSA Real Property Utilization Disposal Division.

The “no action” alternative assumes that the current issues with the Chet Holifield Federal Building would not be addressed and that operations would continue under current conditions.

Dated: November 7, 2019.
Jared Bradley,
Director, Portfolio Management Division, Pacific Rim Region, Public Buildings Service.

[FR Doc. 2019-24818 Filed 11-14-19; 8:45 am]

BILLING CODE 6820-YF-P